DEPARTMENT OF THE INTERIOR

Bureau of Land Management

[AK-023-01-1150-DF-035L-241A]

Multiple-Use Activity Management Plan: Fairbanks, Alaska; Notice of Intent To Develop a Multiple-Use Activity Management Plan for the Colville River Special Area

SUMMARY: The BLM is issuing this notice to advise the public that a Multiple-Use Activity Management Plan will be prepared for the Colville River Special Area as directed by the Record of Decision (ROD) for the Northeast National Petroleum Reserve-Alaska (NPR-A) Integrated Activity Plan/Environmental Impact Statement (IAP/EIS). An Environmental Assessment tiered to the 1998 IAP/EIS will be completed in conformance with NEPA, and an ANILCA 810 subsistence evaluation will be completed for this action.

SUPPLEMENTARY INFORMATION: The study area for the plan will comprise the Colville River Special Area, as designated by the Secretary of the Interior in 1977, including designated portions of the Kikiakrorak and Kogosukruk Rivers as described in the April 6, 1999 Federal Register Notice (64 FR 16747).

Issues we expect to address in the plan will include subsistence, wildlife (specifically including raptors and other birds) and their habitat, and scenic, recreational, scientific, paleontological and other resources, values and uses of the Colville River planning area that may be identified through this scoping effort. The plan will address management of the Umiat Recreation Land Use Emphasis Area consistent with direction in the IAP/EIS and ROD that emphasizes support of public health and safety. The plan will also address the possible creation of a bird conservation area through a cooperative effort that would include the State of Alaska, the Arctic Slope Regional Corporation, and the BLM.

Proposals for oil and gas-related activities within the Colville River Special Area are outside the scope of this plan and will not be considered. The plan will be tiered to the NPR-A IAP/EIS and ROD, and it will incorporate the detailed analysis and decisions made previously in those documents with respect to oil and gas activities authorized in the Northeast planning area. As indicated in the IAP/EIS, other separate NEPA documents will be prepared to analyze any specific permits and approvals necessary to carry out oil and gas activities authorized in the ROD. The Colville River Plan will focus on issues other than oil and gas in the Special Area.

Scoping meetings will occur during January-February 2001 and will be held in Barrow, Nuiqsut, Fairbanks and Anchorage. The times and locations of the meetings will be announced when determined. The scoping period will end on March 15, 2001, and all comments should be received or postmarked on or before that date.

Comments on the scope of this planning effort, information regarding specific resources, values and uses to be studied, and issues that should be addressed in the plan are sought from all interested parties. To be considered, written comments should be addressed to Gary Foreman, 1150 University Ave., Fairbanks, AK 99709-3844 and must be postmarked or received via e-mail by March 15, 2001.

FOR FURTHER INFORMATION, CONTACT: Gary Foreman, 1-800-437-7021, by mail at 1150 University Avenue, Fairbanks, Alaska 99709, or through the BLM web site at http://aurora.ak.blm.gov.

Robert W. Schneider,
Northern Field Office Manager.

[FR Doc. 00-28238 Filed 11-02-00; 8:45 am]

BILLING CODE 4310-JA-P